DEPARTMENT OF THE INTERIOR

Bureau of Land Management

[LLNVS00560.L58530000.EU0000.241A.XXX; MO# 4500068492]

Notice of Realty Action: Non-Competitive Direct Sale of the Reversionary Interest in a Recreation and Public Purpose Act (R&PP) Patent, in Clark County, NV (N-90426)

AGENCY: Bureau of Land Management, Interior.

ACTION: Notice.

SUMMARY: The reversionary interest held by the United States in a 5.22-acre parcel of public land is determined suitable for direct sale and release to the Paradise Bible Baptist Church, under the authority of the Federal Land Policy and Management Act, as amended. The purpose of the direct sale is to dispose of the reversionary interest clause in the patented lands, which represents certain restrictions and conditions that prevents the Paradise Bible Baptist Church from using the land for other purposes.

DATES: Interested parties may submit written comments regarding the direct sale and release of reversionary interest until January 5, 2015.

ADDRESSES: Send written comments to the Bureau of Land Management (BLM), Las Vegas Field Manager, 4701 N. Torrey Pines Drive, Las Vegas, Nevada 89130, or email: ddickey@blm.gov.

FOR FURTHER INFORMATION CONTACT: Dorothy Jean Dickey, 702-515-5119, or ddickey@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: On February 5, 1998, a 5.22-acre parcel was patented (patent number 27-98-0017) to the Paradise Bible Baptist Church under the authority of the R&PP Act of June 14, 1926, as amended, 43 U.S.C. 869 et seq. The purpose for which the land can be used is restricted by a reversionary clause in the patent, which returns title to the United States if the tract is used for other purposes not provided for in the patent. The purpose of the direct sale is to dispose of the reversionary interest in the patented lands which represents certain restrictions and conditions which prevents the Paradise Bible Baptist Church from using the land for other purposes.

The parcel proposed for direct sale of the reversionary interest is located east of Interstate Highway 15 on the corner of Emerson Avenue and Pacific Street in Las Vegas, Nevada, and is described as:

Mount Diablo Meridian, Nevada

T. 21 S., R. 61 E.,

Sec. 13, lot 20.

The area described contains 5.22 acres.

The purpose of the direct sale of the reversionary interest is so the land, patented to the Paradise Bible Baptist Church can be sold and/or used for other purposes. The Paradise Bible Baptist Church is planning on selling the church and moving to a new location. The R&PP Act reversionary clause in the patent requires the church be sold only to those qualified under the R&PP Act and be used only for the purposes allowed under the R&PP Act, or the patented land will revert back to the United States. The church cannot find a buyer who is interested in the land and who qualifies under the R&PP Act. A direct sale of the reversionary interest will allow the church to sell the property to any citizen or organization in the United States and to use the land for any purpose, without the threat of a reversion of the title for breach of patent conditions.

The proposed non-competitive direct sale of the reversionary interest is in conformance with the BLM Las Vegas Resource Management Plan (RMP) and the Record of Decision (ROD) approved on October 5, 1998. Authority for the sale and release of the reversionary interest is in conformance with Section 202 of the FLPMA Act of October 21, 1976, as amended, and Section 203, whereas the Secretary determines that the sale of the parcel meets the following disposal criteria. Such tract is difficult and uneconomic to manage because of its location or other characteristics—such as the subject's history of use, current level of development, and is neither required nor suitable for management by another Federal department or agency. This parcel of land is located in the urban setting of Las Vegas, Nevada, which is in a highly developed urban community that is surrounded by planned communities and commercial businesses; the church has experienced difficulty in attracting potential buyers because of the reversionary clause in patent 27-98-0017, issued on February 5, 1998.

The lands are being offered for sale using direct sale procedures pursuant to 43 CFR 2711.3-3. The reversionary interest in this land will be offered by direct sale and released to the Paradise Bible Baptist Church at the Fair Market Value (FMV) of $444,000.00 according to an appraisal report. The appraisal report is available for public review at the BLM Las Vegas Field Office at the address above.

Upon conveyance of the reversionary interest, the identified 5.22-acre parcel would no longer be subject to the reservations and conditions of the R&PP Act contained in Patent No. 27-98-0017 (unless otherwise noted below). All other terms and conditions of Patent No. 27-98-0017 will continue to apply. The release of the reversionary interest of the 5.22 acres will be made subject to the provisions of FLPMA, the applicable regulations of the Secretary of the Interior, all valid existing rights, and the following:

1. A right-of-way thereon for ditches or canals constructed by the authority of the United States, Act of August 30, 1890 (43 U.S.C. 945);

2. The terms and conditions of the United States Patent No. 27-98-0017, including but not limited to the reservation of all mineral deposits in the land so patented, and the right to prospect for, mine and remove such deposits from the same under applicable law and regulations to be established by the Secretary of the Interior;

3. Valid existing rights; and

4. An easement 30 feet in width along the north boundary and 50 feet in width along the east boundary of lot 20, section 13, T. 21 S., R. 61 E., M.D.M., Nevada, TOGETHER with a 25-foot spandrel area in the northeast corner thereof concave southwesterly and being tangent to the south line of said north 30 feet and tangent to the west line of said east 50 feet, in favor of Clark County, for road, public utilities, and flood control purposes to insure continued ingress and egress to adjacent lands.

The purchaser, by accepting the release of the reversionary interest of the United States agrees to indemnify, defend, and hold the United States, its officers, agents or employees harmless from any costs, damages, claims, causes of action, penalties, fines, liabilities, and judgments of any kind arising from the past, present or future acts or omissions of the purchaser, its employees, agents, contractors, or lessees, or third-party arising out of or in connection with the purchaser's acceptance of the aforementioned release or purchaser's use and/or occupancy of the land involved resulting in: (1) Violations of Federal, State, and local laws and regulations that are now, or in the future become, applicable to real property; (2) judgments, claims or demands of any kind assessed against the United States; (3) Cost, expenses, or damages of any kind incurred by the United States; (4) Releases or threatened releases of solid or hazardous waste(s) and/or hazardous substances(s), as defined by Federal or State environmental laws, off, on, into or under land, property, and other interests of the United States; (5) Other activities by which solids or hazardous substances or wastes, as defined by Federal and State environmental laws are generated, released, stored, used, or otherwise disposed of on the land involved, and any cleanup, response, remedial action or other actions related in any manner to said solid or hazardous substances or wastes; or (6) Natural resource damages as defined by Federal and State law. Patentee shall stipulate that it will be solely responsible for compliance with all applicable Federal, State, and local environmental and regulatory provisions, throughout the life of the facility, including any closure and/or post-closure requirements that may be imposed with respect to any physical plant and/or facility upon the land involved under any Federal, State, or local environmental laws or regulatory provisions. This covenant shall be construed as running with the land and may be enforced by the United States in a court of competent jurisdiction.

No warranty of any kind, express or implied, is given by the United States in connection with the sale or release of the reversionary interest. The documentation for land use conformance, National Environmental Policy Act procedures, a map, and the approved appraisal report covering the proposed sale, are available for review at the BLM Office located at the address listed above.

Interested parties may submit written comments on the direct sale of the reversionary interest for the subject 5.22-acre parcel. Comments on the direct sale are restricted to whether the land is physically suited for the proposal, whether the direct sale will maximize the future use or uses of the land, whether the direct sale is consistent with local planning and zoning, or if the direct sale is consistent with State and Federal programs. Interested parties may also submit written comments on whether the BLM followed proper administrative procedures in reaching the decision for the direct sale of the reversionary interest.

Before including your address, phone number, email address, or other personal identifying information in your comment, you should be aware that your entire comment—including your personal identifying information—may be made publicly available at any time. While you can ask us in your comment to withhold your personal identifying information from public review, we cannot guarantee that we will be able to do so.

Any adverse comments will be reviewed by the BLM Nevada State Director, who may sustain, vacate, or modify this realty action. In the absence of any adverse comments, the decision will become effective on January 20, 2015. The reversionary interest will not be offered for sale and release until after the decision becomes effective.

Authority: 43 CFR 2711.1-2.

Vanessa L. Hice,
Assistant Field Manager, Las Vegas Field Office.

[FR Doc. 2014-27606 Filed 11-20-14; 8:45 am]

BILLING CODE 4310-HC-P